DEPARTMENT OF DEFENSE

Department of the Army, U.S. Army Corps of Engineers

Notice To Prepare an Environmental Assessment and Conduct a Public Meeting for Preparation of a Dredged Material Management Plan for Noyo Harbor, Fort Bragg, Mendocino County, CA

AGENCY: Department of the Army, U.S. Army Corps of Engineers, DOD.

ACTION: Public notice.

SUMMARY: The purpose of this notice is to initiate the scoping process for an evaluation of whether there is adequate capacity for placement/disposal of projected maintenance dredged material from Noyo Harbor. This evaluation will be conducted in a two-step process: first a preliminary assessment (PA) will make projections of the volume of dredged material, estimate the existing capacity for placement/disposal of the material, and verify that continued maintenance dredging is economically justified. If it is concluded that continued maintenance dredging is justified and that the existing placement/disposal capacity is not adequate, then a Dredged Material Management Plan (DMMP) will be prepared to identify placement/disposal sites with adequate capacity for the next 20 years or more of federal and non-federal maintenance dredging.

DATES: A public meeting will be held on April 16, 2015 at 2:00 p.m. (PDT). Submit comments concerning this notice on or before May 4, 2015.

ADDRESSES: The scoping meeting location is the Town Hall, 363 North Main Street, Fort Bragg, California 95437. Mail written comments concerning this notice to: U.S. Army Corps of Engineers, San Francisco District, Engineering and Technical Services Division, ATTN: Mark Wiechmann, 1455 Market Street, San Francisco, CA 94103-1398. Comment letters should include the commenter's physical mailing address and the project title in the subject line.

FOR FURTHER INFORMATION CONTACT: Mark Wiechmann, U.S. Army Corps of Engineers, San Francisco District, Environmental Section B, 1455 Market Street, San Francisco, CA 94103-1398, (415) 503-6846, mark.j.wiechmann@usace.army.mil.

SUPPLEMENTARY INFORMATION: In accordance with the National Environmental Policy Act (NEPA), the Corps intends to prepare an Environmental Assessment. The primary Federal actions under consideration are dredging, dredged material placement/disposal, and transport of dredged material for the purpose of ocean disposal and/or upland beneficial reuse. The Noyo Harbor District is the Non-Federal Sponsor (NFS). The Environmental Assessment is intended to be sufficient in scope to address the Federal, state and local requirements and environmental issues concerning the proposed activities and permit approvals.

Project Site And Background Information: Noyo Harbor is on the Northern California coast about 170 miles North of San Francisco and 130 miles south of Eureka, California. It is located in unincorporated Noyo Township, in forested lands immediately south of Fort Bragg, Mendocino County. Noyo Harbor is a shallow draft navigation project that supports a U.S. Coast Guard search and rescue station, commercial and sport fishing, and recreational boating.

The federal navigation project at Noyo Harbor consists of two jetties and a navigation channel leading to an 8½ acre mooring basin. The north jetty is a 345 foot long concrete mass structure with an armor stone cover and the south jetty is a 240 foot long concrete wall founded on rock. The harbor's opening faces west. The navigation channel is authorized to a project depth of 10 feet mean lower low water (MLLW). It begins in Noyo Cove, located at the mouth of the Noyo River and continues approximately 3,000 feet upriver to the Noyo mooring basin.

Proposed Action(s): The San Francisco District, US Army Corps of Engineers, is evaluating whether there is sufficient placement/disposal capacity and economic justification to support continued maintenance dredging at Noyo Harbor over the next 20 years or more of federal and non-federal maintenance dredging. This evaluation will be conducted in a two-step process. First, a preliminary assessment (PA) will make projections of the volume and physical and chemical characteristics of the dredged material, estimate existing placement/disposal capacity, and verify that continued maintenance dredging is economically justified. Second, if it is determined that continued maintenance dredging is justified, but that the existing placement/disposal capacity is not adequate, then a Dredged Material Management Plan (DMMP) will be prepared to identify future placement/disposal sites for the next 20 years of dredging.

The existing historic disposal site is the North Jetty Upland Disposal Site located just north of the Noyo Harbor entrance channel and one mile east of the Highway 1 Bridge. It is a 2½ acre low-lying area bounded to the north and east by bluffs and to the south and west by the harbor and river, respectively. The site has to be emptied periodically to accommodate additional material.

Issues: Potentially significant issues associated with the project may include: aesthetics/visual impacts, air quality emissions, biological resource impacts, environmental justice, geologic impacts related to seismicity, hazards and hazardous materials, hydrology and water quality, noise, traffic and transportation, and cumulative impacts from past, present and reasonably foreseeable future projects.

Scoping Process: The U.S. Army Corps of Engineers is seeking participation and input of all interested federal, state, and local agencies, Native American groups, and other concerned private organizations or individuals through this public notice. The purpose of the public meeting is to solicit comments regarding the potential impacts and environmental issues associated with the proposed action to be considered. A meeting will be held on April 16, 2015 at 2:00 p.m. (PDT). The final draft PA is expected to be available for public review and comment in the summer of 2015.

Adam J. Czekanski,
Major, U.S. Army, Deputy District Engineer.

[FR Doc. 2015-07559 Filed 4-2-15; 8:45 am]

BILLING CODE 3720-58-P